DEPARTMENT OF HOUSING AND URBAN DEVELOPMENT

[Docket No. FR-7092-N 17; OMB Control No.: 2577-0300]

30-Day Notice of Proposed Information Collection: Operating Fund Shortfall Program Financial Reporting and Monitoring

AGENCY: Office of Policy Development and Research, Chief Data Officer, HUD.

ACTION: Notice.

SUMMARY: HUD is seeking approval from the Office of Management and Budget (OMB) for the information collection described below. In accordance with the Paperwork Reduction Act, HUD is requesting comments from all interested parties on the proposed collection of information. The purpose of this notice is to allow for 30 days of public comment.

DATES: Comments Due Date: July 16, 2025.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function.

FOR FURTHER INFORMATION CONTACT: Anna Guido, Clearance Officer, Paperwork Reduction Act Division, PRAD, Department of Housing and Urban Development, 451 7th Street SW, Room 8210, Washington, DC 20410; email at Anna.P.Guido@hud.gov, telephone (202) 402-5535. This is not a toll-free number. HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Guido.

SUPPLEMENTARY INFORMATION: This notice informs the public that HUD is seeking approval from OMB for the information collection described in Section A. The Federal Register notice that solicited public comment on the information collection for a period of 60 days was published on March 17, 2025 at 90 FR 12335.

A. Overview of Information Collection

Title of Information Collection: OpFund Shortfall Program Financial Reporting and Monitoring.

OMB Approval Number: 2577-0300.

Type of Request: Reinstatement with change of previously approved collection.

Form Number: HUD-50093, HUD-50094, HUD-50095, HUD-50096, SF-425.

Description of the need for the information and proposed use: The Shortfall Program has been in operation since FY 2021 and was created through annual Appropriations laws providing a $25 million set-aside in the Public Housing Fund to assist Public Housing Agencies experiencing or at risk of financial shortfalls. The program is targeted to PHAs with the lowest Public Housing reserves. Funding is allocated to raise PHAs' reserves to two months of expenses. Along with the infusion of funds, PHAs create Improvement Plans to improve their financial situation and address financial issues. OMB requested that PIH collect information from PHAs to evaluate the efficacy of the program in improving PHA's financial situation. This PRA is being submitted to improve the effectiveness of the program (through monitoring and risk management) which ultimately helps the PHAs reach sustainable financial success. This PRA will include a short-form budget for PHAs to report their budget and actuals through the year so that financial and operational performance can be evaluated; an Improvement Plan, which will increase accountability towards making financial improvements; and Shortfall Program Application and Appeal forms. These forms will be accessible to PHA and HUD staff through a web-based portal to increase operational efficiency.

Information collection | Number of respondents | Frequency of response | Responses per annum | Burden hour per response | Annual burden hours | Hourly cost per response | Annual cost
HUD-50093 | 187 | 1 | 187 | 1 | 187 | $46.37 | $8,671.19
HUD-50094 | 187 | 3 | 561 | 0.5 | 280.5 | 46.37 | 13,006.79
HUD-50095 | 187 | 1 | 187 | 0.17 | 31.79 | 46.37 | 1,474.10
HUD-50096 | 4 | 1 | 4 | 1 | 4 | 46.37 | 185.48
SF-425 | 0 | 0 | 0 | 0 | 0 | 0 | 0
Totals | 565 |  | 939 |  | 503.29 |  | 23,337.56

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 2 of the Paperwork Reduction Act of 1995, 44 U.S.C. 3507.

Anna Guido,
Department Clearance Officer, Office of Policy Development and Research, Chief Data Officer.

[FR Doc. 2025-10995 Filed 6-13-25; 8:45 am]

BILLING CODE 4210-67-P